DEPARTMENT OF LABOR

Employment and Training Administration

[TA-W-37,982]

The Arnold Palmer Golf Company, Pocahontas, AR; Notice of Termination of Investigation

Pursuant to section 221 of the Trade Act of 1974, an investigation was initiated on August 21, 2000, in response to a worker petition which was filed by the company on behalf of its workers at The Arnold Palmer Golf Company, Pocahontas, Arkansas. The workers produced golf bags and golf clubs.

Upon examination of the petition, it was discovered that a duplicate petition for the subject workers was instituted on August 14, 2000. The identifying number is TA-W-37,969.

Consequently further investigation in this case (TA-W-37,982) would serve no purpose, and the investigation has been terminated.

Signed in Washington, DC, this 24th day of August, 2000.
Edward A. Tomchick,
Director, Division of Trade Adjustment Assistance.

[FR Doc. 00-23511 Filed 9-12-00; 8:45 am]

BILLING CODE 4510-30-M